DEPARTMENT OF ENERGY

Federal Energy Regulatory Commission

[Project No. 12713-002]

Reedsport OPT Wave Park Project; Reedsport OPT Wave Park; LLC Notice of Scoping Meetings and Environmental Site Review and Soliciting Scoping Comments

March 1, 2010.

Take notice that the following hydroelectric application has been filed with the Commission and is available for public inspection:

a. Type of Application: Original Minor License.

b. Project No.: 12713-002.

c. Date filed: February 1, 2010.

d. Submitted by: Reedsport OPT Wave Park, LLC.

e. Name of Project: Reedsport OPT Wave Park Project.

f. Location: Pacific Ocean in state waters about 2.5 miles off the coast near Reedsport, in Douglas County, Oregon. The project would occupy about 5 acres of federal lands in the Siuslaw National Forest (Oregon Dunes National Recreation Area).

g. Filed Pursuant to: Federal Power Act, 16 U.S.C. 791(a)-825(r).

h. Applicant Contact: Mr. Philip Pellegrino, Reedsport OPT Wave Park, LLC, 1590 Reed Road, Pennington, New Jersey 08534; (609) 730-0400.

i. FERC Contact: Jim Hastreiter at (503) 552-2760 or james.hastreiter@ferc.gov.

j. Deadline for filing scoping comments: May 10, 2010.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The Project facilities would include 10 OPT PowerBuoy wave-powered generating units attached to seabed anchors, tendon lines, subsurface floats, and catenary mooring lines. The PowerBuoy units would be deployed in an array of three to four rows oriented parallel to the shore and would occupy about 0.25 square mile of the Pacific Ocean. Each PowerBuoy would have a maximum diameter of 36 feet, extend 29.5 feet above the water surface, and have a draft of 115 feet.

A power/fiber optic cable would exit the bottom of each PowerBuoy, descending to the seabed in a lazy “S” shape with subsurface floats attached to the cable and a clump weight at the seabed. The 10 PowerBuoy units would be connected to a single Underwater Substation Pod (USP) via power/fiber-optic lines. The USP would be about 6 feet in diameter and 15 feet in length, and would rest on the seabed below the PowerBuoys, held in place with pre-cured concrete ballast blocks. A submarine transmission cable, buried in the seabed to a depth of 3 to 6 feet, would extend from the USP to an existing wastewater discharge pipe. The submarine cable would extend through the wastewater pipe to an underground vault, which would be constructed at the existing turn-around at the end of Sparrow Park Road, immediately inland of the sand dunes. At the vault, the subsea transmission cable would exit the effluent pipe, transition to an underground cable, and reenter the effluent pipe.

The underground transmission cable would continue within the effluent pipe eastward for approximately 3 miles, where it would connect to the Douglas Electric Cooperative transmission line at a proposed shore station. The shore station would consist of a 100- to 200-square foot building.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

You may also register online at http://www.ferc.gov/docs-filing/esubscription.asp to be notified via e-mail of new filings and issuances related to this or other pending projects. For assistance, contact FERC Online Support.

n. Scoping Process:

The Commission intends to prepare an Environmental Assessment (EA) on the project in accordance with the National Environmental Policy Act. The EA will consider both site-specific and cumulative environmental impacts and reasonable alternatives to the proposed action.

Scoping Meetings

FERC staff will conduct one daytime scoping meeting and one evening scoping meeting. The daytime scoping meeting will focus on resource agency and non-governmental organization concerns, while the evening scoping meeting is primarily for public input. All interested individuals, organizations, and agencies are invited to attend one or both of the meetings, and to assist the staff in identifying the scope of the environmental issues that should be analyzed in the EA. The times and locations of these meetings are as follows:

Evening Scoping Meeting:

Date and Time: Wednesday, April 7, 2010, at 7 p.m. (PST),

Location: Reedsport High School, 2260 Longwood Drive, Reedsport, Oregon 97467.

Daytime Scoping Meeting:

Date and Time: Thursday, April 8, 2010, at 2 p.m. (PST),

Location: Salem Conference Center, Croisan Room, 200 Commercial Street SE., Salem, Oregon 97301.

Copies of the Scoping Document outlining the subject areas to be addressed in the EA were distributed to the parties on the Commission's mailing list. Copies of the Scoping Document will be available at the scoping meeting or may be viewed on the Web at http://www.ferc.gov using the “eLibrary” link [see item (m) above].

Environmental Site Review

The Applicant and FERC staff will conduct a project environmental site review beginning at 1 p.m. (PST) on April 7, 2010. All interested individuals, organizations, and agencies are invited to attend. All participants should meet at the Reedsport City Hall at 451 Winchester Avenue, Reedsport, Oregon 97467. All participants are responsible for their own transportation to the site. Please notify George Wolff, Reedsport OPT Wave Park, LLC at (609) 730-0400, ext. 238 or gwolff@oceanpowertech.com by March 25, 2010, if you plan to attend the environmental site review.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures:

The meetings are recorded by a stenographer and become part of the formal record of the Commission proceeding on the project. Individuals, organizations, and agencies with environmental expertise and concerns are encouraged to attend the meeting and to assist the staff in defining and clarifying the issues to be addressed in the EA.

Kimberly D. Bose,
Secretary.

[FR Doc. 2010-4995 Filed 3-9-10; 8:45 am]

BILLING CODE 6717-01-P